ENVIRONMENTAL PROTECTION AGENCY

[OPPT-2002-0035; FRL-7492-3]

Agency Information Collection Activities; Submission of EPA ICR No. 0794.10 (OMB No. 2070-0046) to OMB for Review and Approval; Comment Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Notification of Substantial Risk of Injury to Health and the Environment under TSCA Section 8(e) (EPA ICR No. 0794.10; OMB Control No. 2070-0046). The ICR, which is abstracted below, describes the nature of the information collection and its estimated burden and cost. On August 22, 2002 (67 FR 54416), EPA sought comments on this ICR pursuant to 5 CFR 1320.8(d). EPA received two comments, and addressed the comments received as an attachment to the ICR.

DATES: Additional comments may be submitted on or before June 2, 2003.

ADDRESSES: Submit your comments, identified by docket ID number OPPT-2002-0035, to both (1) EPA online at http://www.epa.gov/edocket (our preferred method) or by mail to: EPA Docket Center, Environmental Protection Agency, Mailcode: 7407T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Barbara Cunningham, Acting Director, Environmental Assistance Division, Office of Pollution Prevention and Toxics, Environmental Protection Agency, Mailcode: 7408, 1200 Pennsylvania Ave., NW., Washington, DC 20460; telephone number: 202-554-1404; e-mail address: TSCA-Hotline@epa.gov.

SUPPLEMENTARY INFORMATION: EPA has submitted the following ICR to OMB for review and approval according to the procedures prescribed in 5 CFR 1320.12.

EPA has established a public docket for this ICR under Docket ID No. OPPT-2002-0035, which is available for public viewing at the Pollution Prevention and Toxics Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Pollution Prevention and Toxics Docket is (202) 566-0280. An electronic version of the public docket is available through EPA Dockets (EDOCKET) at http://www.epa.gov/edocket. Use EDOCKET to submit or view public comments, access the index listing of the contents of the public docket, and to access those documents in the public docket that are available electronically. Once in the system, select “search,” then key in the docket ID number identified above. Any comments related to this ICR should be submitted to EPA and OMB within 30 days of this notice.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET.

Title: Notification of Substantial Risk of Injury to Health and the Environment under TSCA Section 8(e) (EPA ICR No. 0794.10; OMB Control No. 2070-0046). This is a request to renew an approved collection that is currently scheduled to expire on April 30, 2003. Under the OMB regulations, the Agency may continue to conduct or sponsor the collection of information while this submission is pending at OMB.

Abstract: TSCA section 8(e) requires that any person who manufactures, imports, processes or distributes in commerce a chemical substance or mixture and which obtains information that reasonably supports the conclusion that such substance or mixture presents a substantial risk of injury to health or the environment must immediately inform EPA of such information. EPA routinely disseminates TSCA section 8(e) data it receives to other Federal agencies to provide information about newly discovered chemical hazards and risks.

Responses to the collection of information are mandatory (see 15 U.S.C. 2607(e)). Respondents may claim all or part of a notice confidential. EPA will disclose information that is covered by a claim of confidentiality only to the extent permitted by, and in accordance with, the procedures in TSCA section 14 and 40 CFR part 2.

An agency may not conduct or sponsor, and a person is not required to respond to, a collection of information unless it displays a currently valid OMB control number. The OMB control numbers for EPA's regulations in title 40 of the CFR, after appearing in the Federal Register, are listed in 40 CFR part 9 and included on the related collection instrument or form, if applicable.

Burden Statement: The annual public reporting burden for this collection of information is estimated to range between 5 hours and 27 hours per response, depending upon the nature of the response. Under the PRA, burden means the total time, effort or financial resources expended by persons to generate, maintain, retain or disclose or provide information to or for a Federal agency. This includes the time needed to review instructions; develop, acquire, install and utilize technology and systems for the purposes of collecting, validating and verifying information, processing and maintaining information, and disclosing and providing information; adjust the existing ways to comply with any previously applicable instructions and requirements; train personnel to be able to respond to a collection of information; search data sources; complete and review the collection of information; and transmit or otherwise disclose the information.

Respondents/Affected Entities: Companies that manufacture, import, process or distribute in commerce chemical substances or mixtures and that obtain information that reasonably supports the conclusion that such substance or mixture presents a substantial risk of injury to health or the environment.

Frequency of Collection: On occasion.

Estimated No. of Respondents: 218.

Estimated Total Annual Burden on Respondents: 6,431 hours.

Estimated Total Annual Costs: $678,525.

Changes in Burden Estimates: There is a decrease of 1,778 hours (from 8,209 hours to 6,431 hours) in the total estimated respondent burden compared with that identified in the information collection request most recently approved by OMB. This change results from an overall decrease in section 8(e) reporting, primarily from a reduction in the number of follow-up/supplemental section 8(e) notices received. In previous ICR renewals, EPA used an historical average of 2.2 follow-up notices per each initial submission. This figure was based on EPA's experience and system for reviewing section 8(e) notices in place pre-1990. During that time EPA received fewer than 100 initial notices per year and was able to perform a much more detailed review of each notice received. The consequence of that review was that there was much more interaction with the submitting companies generating numerous follow-up notices and information submissions. However, during and since the 1991 Compliance Audit Program, because of the increase in initial notices submitted, EPA has contacted submitters for additional information only for those initial notices that are identified during the preliminary screening evaluation as needing additional information from the submitters. Consequently, the number of follow-up notices has fallen due to the changed nature of EPA's review of initial notices. Over the last three fiscal years, EPA has received 341 follow-up notices versus 653 initial notices, or approximately 0.5 follow-up notices per initial notice (adjustment). In addition, EPA has separately identified mailing costs for the first time in this ICR, i.e., mailing costs of $10 per 327 submissions, or $3,270, which are included in the total costs identified above (adjustment).

Dated: April 23, 2003.
Richard T. Westlund,
Acting Director, Collection Strategies Division.

[FR Doc. 03-10896 Filed 5-1-03; 8:45 am]

BILLING CODE 6560-50-P